DEPARTMENT OF LABOR

Office of the Secretary

Submission for OMB Review; Comment Request

December 21, 2001.

The Department of Labor (DOL) has submitted the following public information collection requests (ICRs) to the Office of Management and Budget (OMB) for review and approval in accordance with the Paperwork Reduction Act of 1995 (Pub. L. 104-13), 44 U.S.C. chapter 35). A copy of this ICR, with applicable supporting documentation, may be obtained by calling the Department of Labor. To obtain documentation contact Darrin King on (202) 693-4129 or e-mail: King-Darrin@dol.gov.

Comments should be sent to Office of Information and Regulatory Affairs, Attn: OMB Desk Officer MSHA, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Type of Review: Extension of a currently approved collection.

Agency: Mine Safety and Health Administration (MSHA).

Title: Respirator Program Records—30 CFR 56.5005 and 57.5005.

OMB Number: 1219-0048.

Affected Public: Business or other for-profit.

Frequency: On occasion, Annually, and Monthly.

Type of Reporting: Recordkeeping.

Number of Respondents: 310.

Requirement | Annual responses | Average response time (hours) | Estimated annual burden (hours)
Develop a respirator program | 310 | 5 | 1,550
Fit-testing records | 1,500 | .25 | 375
Respirator inspection records | 3,720 | .83 | 310
Total | 5,530 |  | 2,235

Total Annualized Capital/Startup Costs: $0.

Total Annual Costs (operating/maintaining systems or purchasing services): $156,350.

Description: Where protective equipment or respirators are required because of exposure to harmful substances, 30 CFR 56.5005 and 57.5005 require a written respirator program that addresses such issues as selection, fitting, use, and maintenance of respirators to ensure that workers are properly and effectively using the equipment, and that such equipment offers adequate protection for workers. Records of fit-testing are essential for determining that the worker is wearing the proper respirator. Certain records are also required to be kept in connection with respirators, including records of the date of issuance of the respirator, and fit-test results. The fit-testing records are essential for determining that the worker is wearing the proper respirator.

Ira L. Mills,
Departmental Clearance Officer.

[FR Doc. 02-48 Filed 1-2-02; 8:45 am]

BILLING CODE 4510-43-M